DEPARTMENT OF HEALTH AND HUMAN SERVICES

Announcement of Meeting of the Secretary's Advisory Committee on National Health Promotion and Disease Prevention Objectives for 2030

AGENCY: Office of the Secretary, Office of the Assistant Secretary for Health, Office of Disease Prevention and Health Promotion, Department of Health and Human Services.

ACTION: Notice.

SUMMARY: The U.S. Department of Health and Human Services (HHS) announces the next meeting of the Secretary's Advisory Committee on National Health Promotion and Disease Prevention Objectives for 2030 (Committee). The meeting is open to the public and will be held in the Washington, DC metropolitan area. The Committee is working to accomplish its mission to provide independent advice to the Secretary of the U.S. Department of Health and Human Services or a designated representative for the implementation of Healthy People 2030.

DATES: The Committee will meet on September 6, 2018, from 8:30 a.m. to 5:00 p.m. Eastern Time (ET), and September 7, 2018, from 8:30 a.m. to 3:00 p.m. ET.

ADDRESSES: The meeting will be held at the 20 F Street Conference Center, located at 20th F Street NW, Washington, DC 20001. To register to attend the meeting, please visit the Healthy People website at https://www.healthypeople.gov.

FOR FURTHER INFORMATION CONTACT: Emmeline Ochiai, Designated Federal Officer, Secretary's Advisory Committee on National Health Promotion and Disease Prevention Objectives for 2030, U.S. Department of Health and Human Services, Office of the Assistant Secretary for Health, Office of Disease Prevention and Health Promotion, 1101 Wootton Parkway, Room LL-100, Rockville, MD 20852, (240) 453-8255 (telephone), (240) 453-8281 (fax). Additional information is available on the Healthy People website at https://www.healthypeople.gov.

SUPPLEMENTARY INFORMATION:

Appointed Committee Members: The names and biographies of the appointed Committee members are available at https://www.healthypeople.gov/2020/about/history-development/healthy-people-2030-advisory-committee.

Purpose of Meeting: In accordance with Federal Advisory Committee Act and to promote transparency of the process, deliberations of the Committee will occur in a public forum. At this meeting, the Committee will continue its deliberations from the last public meeting.

Background: The Committee, a federal advisory committee, is charged with issuing recommendations for the Secretary regarding the implementation of national health promotion and disease prevention objectives for 2030. The Committee will discuss the nation's health promotion and disease prevention objectives and will provide recommendations to improve health status and reduce health risks for the nation by the year 2030. The Committee will develop recommendations for implementing Healthy People 2030, including recommendations for engaging stakeholders in the implementation and achievement of the objectives. Through the Healthy People initiative, HHS leverages scientific insights and lessons from the past decade and new knowledge of current data, trends, and innovations to develop the next iteration of national health promotion and disease prevention objectives to improve the health of the nation. Healthy People provides science-based, 10-year national objectives for promoting health and preventing disease. Since 1979, Healthy People has set and monitored national health objectives that meet a broad range of health needs, encourage collaboration across sectors, guide individuals toward making informed health decisions, and measure the impact of our prevention and health promotion activities.

Meeting Agenda: The meeting agenda is available at the Healthy People website at http://www.healthypeople.gov. The Committee will develop further its recommendations regarding: Stakeholder engagement; the roles of health equity, complex systems science and modeling, and summary measures in Healthy People 2030; and activities for implementing Healthy People 2030.

Public Participation at Meeting: Members of the public are invited to attend the Committee meeting. There will be no opportunity for oral public comments during the Committee meeting. However, written comments are welcome throughout the entire development process of the national health promotion and disease prevention objectives for 2030 and may be emailed to HP2030@hhs.gov. To attend the Committee meeting, individuals must pre-register at the Healthy People website at http://www.healthypeople.gov. Registrations must be completed by 5:00 p.m. E.T., on August 31, 2018. Space for the meeting is limited and registration will be accepted until maximum room capacity is reached. A waiting list will be maintained should registrations exceed room capacity. Individuals on the waiting list will be contacted as additional space for the meeting becomes available. Registration questions may be directed to HealthyPeople@norc.org.

Authority: 42 U.S.C. 217a. The Secretary's Advisory Committee on National Health Promotion and Disease Prevention Objectives for 2030 is governed by provisions of the Federal Advisory Committee Act (FACA), Public Law 92-463, as amended (5 U.S.C., App.) which sets forth standards for the formation and use of federal advisory committees.

Dated: July 25, 2018.
Donald Wright,
Deputy Assistant Secretary for Health, (Disease Prevention and Health Promotion).

[FR Doc. 2018-16238 Filed 7-27-18; 8:45 am]

BILLING CODE 4150-32-P